DEPARTMENT OF JUSTICE

Notice of Lodging of Consent Decree Under the Clean Air Act

Notice is hereby given that on August 9, 2012, a proposed Consent Decree signed by the plaintiff, the United States of America, and the defendants, Icicle Seafoods, Inc., Evening Star, Inc., Icicle Acquisition Subsidiary, LLC, and LFK, Inc., was lodged with the United States District Court for the Western District of Washington.

In this lawsuit the United States sought civil penalties and injunctive relief for defendants' alleged violations of regulations promulgated by the Environmental Protection Agency under Title VI of the Clean Air Act, specifically regulations set forth in 40 CFR part 82, Subpart F. The regulations govern the management and control of ozone-depleting substances used as refrigerants in defendants' vessels and other fish processing facilities. The Consent Decree requires the defendants to pay a civil penalty of $430,000.00 and to perform injunctive relief. To ensure the defendants' compliance going forward, the Consent Decree will require the defendants to institute a comprehensive leak inspection and repair program for all of their vessels and operating facilities. To mitigate the effects of past violations, the Consent Decree specifies that the defendants will repair leaks in the refrigeration systems of certain vessels and facilities when the leak rate would result in losing more than 20% of the refrigerant charge during a 12-month period. This is a stricter standard than is required by the leak repair regulations.

For thirty (30) days after this notice, the Department of Justice will receive comments related to the Consent Decree. Comments should be addressed to the Assistant Attorney General, Environment and Natural Resources Division, and either emailed to pubcomment-ees.enrd@usdoj.gov or mailed to P.O. Box 7611, U.S. Department of Justice, Washington, DC 20044-7611. The comments should refer to United States v. Icicle Seafoods, Inc., No. 12-cv-1349 (W.D. Wash.), DOJ No. 90-5-1-1-07395/2.

During the public comment period, the Consent Decree may also be examined on the following Department of Justice Web site: http://www.usdoj.gov/enrd/Consent_Decrees.html. A copy of the Consent Decree may also be obtained by mail from the Consent Decree library, P.O. Box 7611, U.S. Department of Justice, Washington, DC 20044-7611, or by faxing or emailing a request to “Consent Decree Copy” (EESCDCopy.ENRD@udoj.gov), fax no. (202) 514-0097, phone confirmation number (202) 514-5271. If requesting a copy from the Consent Decree library by mail, please enclose a check in the amount of $10.00 (40 pages at 25 cents per page reproduction cost) payable to the U.S. Treasury or, if requesting by email or fax, forward a check in that amount to the Consent Decree Library at the address given above.

Robert E. Maher, Jr.,
Assistant Section Chief, Environmental Enforcement Section, Environment and Natural Resources Division.

[FR Doc. 2012-20047 Filed 8-14-12; 8:45 am]

BILLING CODE 4410-15-P